DEPARTMENT OF COMMERCE

National Oceanic and Atmospheric Administration

[RTID 0648-XA255]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Wednesday, July 22, 2020, from 9 a.m. through 5:30 p.m. and Thursday, July 23, 2020, from 8:30 a.m. through 4 p.m. See SUPPLEMENTARY INFORMATION for agenda details.

ADDRESSES: The meeting will take place over webinar with a telephone-only connection option. Details on how to connect to the webinar by computer and by telephone will be available at: http://www.mafmc.org/ssc.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to make multi-year acceptable biological catch (ABC) recommendations for Atlantic surfclam, ocean quahog, longfin squid, and butterfish based on the results of the recently completed management track stock assessment updates. The SSC will recommend 2021-26 ABC specifications for Atlantic surfclam and ocean quahog; 2021-23 ABC specifications for longfin squid; and 2021-22 ABC specifications for butterfish. The SSC will also review the most recent survey and fishery data and the previously recommended 2021 ABC for Atlantic mackerel, bluefish, summer flounder, scup, and black sea bass. For summer flounder, scup, and black sea bass, the SSC will consider revising the 2021 ABC recommendation utilizing the new risk policy recently approved by the Council. The SSC will also review and provide feedback on ongoing Council actions, including the Summer Flounder, Scup, and Black Sea Bass Commercial/Recreational Allocation Amendment and the Bluefish Allocation and Rebuilding Amendment. In addition, the SSC may take up any other business as necessary.

A detailed agenda and background documents will be made available on the Council's website (www.mafmc.org) prior to the meeting.

Special Accommodations

The meeting is physically accessible to people with disabilities. Requests for sign language interpretation or other auxiliary aid should be directed to M. Jan Saunders, (302) 526-5251, at least 5 days prior to the meeting date.

Authority: 16 U.S.C. 1801 et seq.

Dated: July 1, 2020.
Tracey L. Thompson,
Acting Deputy Director, Office of Sustainable Fisheries, National Marine Fisheries Service.

[FR Doc. 2020-14566 Filed 7-6-20; 8:45 am]

BILLING CODE 3510-22-P